DEPARTMENT OF ENERGY

Federal Energy Regulatory Commission

[Project No. 15055-001]

Northern States Power Company; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: Original Major License.

b. Project No.: 15055-001.

c. Date Filed: August 18, 2023.

d. Applicant: Northern States Power Company (Northern States).

e. Name of Project: Gile Flowage Storage Reservoir Project (project).

f. Location: On the West Fork of the Montreal River in Iron County, Wisconsin.

g. Filed Pursuant to: Federal Power Act, 16 U.S.C. 791(a)-825(r).

h. Applicant Contact: Mr. Matthew Miller, Environmental Analyst, 1414 W Hamilton Avenue, P.O. Box 8, Eau Claire, WI 54702; telephone at (715) 737-1353; email at matthew.j.miller@xcelenergy.com.

i. FERC Contact: Nicholas Ettema, Project Coordinator, Great Lakes Branch, Division of Hydropower Licensing; telephone at (312) 596-4447; email at nicholas.ettema@ferc.gov.

j. Deadline for filing motions to intervene and protests, comments, recommendations, preliminary terms and conditions, and preliminary fishway prescriptions: 60 days from the issuance date of this notice; reply comments are due 105 days from the issuance date of this notice.

The Commission strongly encourages electronic filing. Please file motions to intervene and protests, comments, recommendations, preliminary terms and conditions, and preliminary fishway prescriptions using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. All filings must clearly identify the project name and docket number on the first page: Gile Flowage Storage Reservoir Project (P-15055-001).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The proposed project includes an existing 902.6-foot-long, 32.5-foot-high dam that includes: (1) a 300-foot-long west earthen embankment with a crest elevation of 1495.0 feet National Geodetic Vertical Datum of 1929 (NGVD 29); (2) a 27.6-foot-long concrete section that includes: (a) a 6-foot-long sluice gate with a trashrack with 2.625-inch clear bar spacing; and (b) a 16-foot-long Tainter gate; and (3) a 575-foot-long east earthen embankment with a crest elevation of 1495.0 feet NGVD 29. The dam creates a reservoir that has a surface area of 3,325 acres at a normal maximum surface elevation of 1,490 feet NGVD 29, and a usable storage capacity of 32,713 acre-feet between 1,475 feet and 1,490 feet NGVD 29. A 27.5-foot-long, 11.8-foot-wide brick gatehouse is located on top of the dam.

From the reservoir, water flows through the sluice gate to a 35-foot-long concrete conduit, and through the Tainter gate to a 16-foot-long Ogee spillway. From the conduit and spillway, water flows to an approximately 53-foot-long concrete apron that discharges to the West Fork of the Montreal River. The project does not contain any generating facilities.

The proposed project includes the following existing recreation facilities: (1) a hand-carry boat take-out site on the shoreline of the reservoir, at the east earthen embankment; (2) an approximately 100-foot-long hand-carry boat portage route; and (3) a hand carry boat put-in site located on the east shore of the West Fork of the Montreal River, immediately downstream of the project dam.

The proposed project boundary encompasses approximately 3,457.5 acres, including the reservoir, islands in the reservoir owned by Northern States, and land associated with project facilities.

Northern States proposes to: (1) continue to operate the reservoir as a water storage facility where water is stored and used to augment flow for hydroelectric generation at the downstream Saxon Falls Hydroelectric Project No. 2610 (Saxon Project) and Superior Falls Hydroelectric Project No. 2587 (Superior Project); (2) continue to maintain the reservoir levels between 1,475 feet and 1,490 feet NGVD 29; (3) continue to release a minimum flow of 10 cubic feet per second (cfs) through the sluice gate to the West Fork of the Montreal River downstream of the dam; (4) continue to limit the reservoir drawdown rate to no more than 0.2 foot per day; (5) develop an operation compliance monitoring plan; (6) develop an invasive species plan and conduct biennial invasive species surveys; (7) conduct shoreline erosion surveys every five years of all shorelines in the project boundary, including the tailrace, and file a report with recommendations for actions on any erosion in the project boundary; (8) develop a historic properties management plan to protect historic properties; (9) develop an operation compliance monitoring plan; (10) publish flow releases and reservoir storage elevation data on the internet; (11) develop a land management plan to for recreation use, signage, maintenance, and trash removal on islands owned by Northern States in the reservoir; (12) develop a whitewater recreation plan that includes provisions for whitewater flow releases of 1,200 cfs in the morning on two days each year; (13) maintain existing recreation facilities as project facilities, and update directional and safety signage; (14) implement the Wisconsin Department of Natural Resources' (Wisconsin DNR) Broad Incidental Take Permit for Wisconsin Cave Bats during routine recreation site maintenance; (15) implement the current U.S. Fish and Wildlife Service's guidance for northern long-eared bat when removing trees greater than 3 inches in diameter; (16) protect wood turtles by implementing the Wisconsin DNR's Broad Incidental Take Permit for Wood Turtles, including but not limited to restrictions on herbicide use.

m. A copy of the application can be viewed on the Commission's website at http://www.ferc.gov using the “eLibrary” link. Enter the docket number excluding the last three digits in the docket number field to access the document (i.e., P-15055). For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support.

o. The applicant must file no later than 60 days following the date of issuance of this notice: (1) a copy of the water quality certification; (2) a copy of the request for certification, including proof of the date on which the certifying agency received the request; or (3) evidence of waiver of water quality certification.

p. Procedural Schedule: The application will be processed according to the following schedule. Revisions to the schedule will be made as appropriate.

Milestone | Target date
Filing of Comments, Recommendations, Terms and Conditions, and Prescriptions | December 2024.
Filing of Reply Comments | January 2025.

q. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Dated: October 10, 2024.
Debbie-Anne A. Reese,
Secretary.

[FR Doc. 2024-23939 Filed 10-16-24; 8:45 am]

BILLING CODE 6717-01-P